DEPARTMENT OF ENERGY

Federal Energy Regulatory Commission

[Docket No. RP96-367-012]

Northwest Pipeline Corporation; Notice of Compliance Filing

November 6, 2000.

Take notice that on October 30, 2000, Northwest Pipeline Corporation (Northwest) tendered for filing as part of its FERC Gas Tariff, Third Revised Volume No. 1, the following tariff sheets, to be effective December 1, 2000:

Thirteenth Revised Sheet No. 8

Tenth Revised Sheet No. 8.1

Northwest states that the purpose of this filing is to implement rate design changes to Northwest's Rate Schedule LS-1, LS-2F, and LS-21 LNG storage services consistent with the Commission's resolution of LNG storage services rate design issues in Northwest's Docket No. RP95-409 and pursuant to the terms of the Commission-approved Settlement in Northwest's Docket No. RP96-367.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 00-28928 Filed 11-9-00; 8:45 am]

BILLING CODE 6717-01-M